FEDERAL RESERVE SYSTEM

Change in Bank Control Notices; Acquisitions of Shares of a Bank or Bank Holding Company; Correction

This notice corrects a notice (FR Doc. 2019-19057) published on page 46525 in the first column of the issue for Wednesday, September 4, 2019.

Under A. Federal Reserve Bank of Dallas, entry 2 is corrected to read as follows:

2. Edwin M. Payne, Weslaco, Texas; to retain voting shares of Greater State Bancshares Corp., and thereby indirectly retain shares of Greater State Bank, both of McAllen, Texas.

Comments on this application must be received by September 20, 2019.

Board of Governors of the Federal Reserve System, September 4, 2019.
Yao-Chin Chao,
Assistant Secretary of the Board.

[FR Doc. 2019-19390 Filed 9-6-19; 8:45 am]

BILLING CODE P